DEPARTMENT OF LABOR

Employment and Training Administration

[TA-W-50,017]

Blue Bird Corp., Blue Bird Body Co., Blue Bird Midwest Division, Including Temporary Workers of Temp Associates, CSI Employment Services, Successful Futures, CSI LTD., Inc., Mt. Pleasant, IA; Amended Certification Regarding Eligibility To Apply for Worker Adjustment Assistance

In accordance with section 223 of the Trade Act of 1974 (19 U.S.C. 2273) the Department of Labor issued a Certification of Eligibility to Apply for Worker Adjustment Assistance on December 3, 2002, applicable to workers of Blue Bird Corporation, Blue Bird Body Company, Blue Bird Midwest Division, Mt. Pleasant, Iowa. The notice was published in the Federal Register on December 23, 2002 (67 FR 78256).

At the request of the State agency, the Department reviewed the certification for workers of the subject firm. Information provided by the State and the company shows that temporary workers of Temp Associates, CSI Employment Services, Successful Futures and CSI Ltd., Inc. were employed at Blue Bird Corporation, Blue Bird Body Company, Blue Bird Midwest Division to produce school buses at the Mt. Pleasant, Iowa location of the subject firm.

Based on these findings, the Department is amending this certification to include temporary workers of Temp Associates, CSI Employment Services, Successful Futures and CSI Ltd., Inc., Mt. Pleasant, Iowa working at Blue Bird Corporation, Blue Bird Body Company, Blue Bird Midwest Division, Mt. Pleasant, Iowa.

The intent of the Department's certification is to include all workers of Blue Bird Corporation, Blue Bird Body Company, Blue Bird Midwest Division who were adversely affected by the shift in production to Canada.

The amended notice applicable to TA-W-50,017 is hereby issued as follows:

All workers of Blue Bird Corporation, Blue Bird Body Company, Blue Bird Midwest Division, Mt. Pleasant, Iowa, including temporary workers of Temp Associates, CSI Employment Services, Successful Futures and CSI Ltd., Inc., engaged in employment related to the production of school buses at Blue Bird Body Company, Blue Bird Midwest Division, Mt. Pleasant, Iowa, who became totally or partially separated from employment on or after November 5, 2001, through December 3, 2004, are eligible to apply for adjustment assistance under section 223 of the Trade Act of 1974.

Signed at Washington, DC this 17th day of March 2003.
Linda G. Poole,
Certifying Officer, Division of Trade Adjustment Assistance.

[FR Doc. 03-8917 Filed 4-10-03; 8:45 am]

BILLING CODE 4510-30-P